JOINT BOARD FOR THE ENROLLMENT OF ACTUARIES

Meeting of the Advisory Committee; Meeting

AGENCY: Joint Board for the Enrollment of Actuaries.

ACTION: Notice of Federal Advisory Committee meeting; amended.

SUMMARY: Notice published in the Federal Register on April 11, 2017, 82 FR 17447, provided that a closed meeting of the Advisory Committee on Actuarial Examinations would be held on April 28, 2017, from 8:30 a.m. to 5:00 p.m. at Willis Towers Watson, 2901 North Central Avenue, Suite 1100, Phoenix, AZ 85012-2731. However, due to budgetary restrictions precluding travel, the closed meeting of the Advisory Committee on Actuarial Examinations on April 28, 2017, was held by teleconference from 9 a.m. to 5 p.m. (EDT), rather than at the time and location provided in the notice of April 11, 2017. Because the circumstances necessitating the changes to the meeting were beyond the control of the Joint Board for the Enrollment of Actuaries, it was unable to provide public notification about the changes, as required by 41 CFR 102-3.150(a).

FOR FURTHER INFORMATION CONTACT: Elizabeth Van Osten, Designated Federal Officer, Advisory Committee on Actuarial Examinations, 703-414-2163.

Dated: April 28, 2017.
Chet Andrzejewski,
Chair, Joint Board for the Enrollment of Actuaries.

[FR Doc. 2017-09257 Filed 5-5-17; 8:45 am]

BILLING CODE 4830-01-P